DEPARTMENT OF HEALTH AND HUMAN SERVICES

Administration for Children and Families

Proposed Information Collection Activity; Healthy Marriage and Responsible Fatherhood Local Evaluation Final Report (New Collection)

AGENCY: Office of Planning, Research, and Evaluation, Administration for Children and Families, U.S. Department of Health and Human Services.

ACTION: Request for public comments.

SUMMARY: The Office of Planning, Research, and Evaluation (OPRE) in the Administration for Children and Families (ACF), U.S. Department of Health and Human Services is requesting approval of the Healthy Marriage and Responsible Fatherhood (HMRF) Final Report Templates. HMRF grant programs are required to submit a final report describing their local evaluation analyses and findings. This request includes guidance for grant recipients in the form of templates. Information will inform technical assistance to support grantees in developing and submitting the final reports to ACF to fulfill a grant requirement.

DATES: Comments due December 3, 2024. In compliance with the requirements of the Paperwork Reduction Act of 1995, ACF is soliciting public comment on the specific aspects of the information collection described above.

ADDRESSES: You can obtain copies of the proposed collection of information and submit comments by emailing OPREinfocollection@acf.hhs.gov. Identify all requests by the title of the information collection.

SUPPLEMENTARY INFORMATION: Description: Since 2005, Congress has authorized dedicated funding for discretionary awards from ACF's Office of Family Assistance to support HMRF programs. Per the 2020 HMRF Notice of Funding Opportunities issued by ACF, HMRF grant recipients that are carrying out local evaluations are required to submit a final evaluation report to ACF at the end of their grant. The final reports must document the research questions, measures, study design, planned and actual implementation of the program, analytic methods for their evaluation, and evaluation findings.

OPRE is conducting the HMRF Local Evaluation Technical Assistance (LETA) projects, jointly referred to as the HMRF-LETA projects, to support federally funded programs in evaluating their healthy relationship and family stability services to adult couples, adult individuals, fathers, and youth. As part of the HMRF-LETA project, grant recipients receive technical assistance to support planning and executing a local evaluation and analyzing and reporting local evaluation findings.

The purpose of the current information collection request is to provide standardized report templates and table shells to grant recipients to document their evaluation's analysis and findings. A structured final report template will facilitate grant recipients' efficient and consistent reporting of evaluation findings in their final reports. The completed draft reports will be reviewed by the HMRF-LETA teams to determine whether the analysis and reports meet standards set by ACF, and to develop recommendations for grant recipients to improve the analysis and reports before final submission to ACF. Grant recipients will finalize and submit their final reports to ACF, as required. This request includes the time to develop and submit the reports.

Respondents: The respondents are HMRF grant recipients conducting a local evaluation. There are currently 79 grant recipients conducting local evaluations: 50 evaluations using descriptive designs (“descriptive evaluations”) and 29 evaluations using impact designs (“impact evaluations”).

Annual Burden Estimates
Instrument | Number of respondents (total over request period) | Number of responses per respondent (total over request period) | Avg. burden per response (in hours) | Total/annual burden (in hours)
Descriptive Evaluation Final Report Template | 50 | 1 | 40 | 2,000
Impact Evaluation Final Report Template | 29 | 1 | 30 | 870
Impact Evaluation Final Report Table Shells | 29 | 1 | 10 | 290

Estimated Total Annual Burden Hours: 3,160.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 603(a)(2).

Mary C. Jones,
ACF/OPRE Certifying Officer.

[FR Doc. 2024-22959 Filed 10-3-24; 8:45 am]

BILLING CODE 4184-73-P